DEPARTMENT OF TRANSPORTATION

Surface Transportation Board

[STB Finance Docket No. 27843 (Sub-No. 1)]

Union Pacific Railroad Company—Trackage Rights Exemption (Modification)—Iowa, Chicago & Eastern Railroad Corp.

Iowa, Chicago & Eastern Railroad Corp. (ICE) has agreed to modify an existing overhead trackage rights agreement which permits Union Pacific Railroad Company (UP) to operate over ICE's rail line extending between milepost 192.83 at Emmetsburg, IA, and milepost 236.52 at Hartley, IA, a distance of 43.69 miles (the line).¹

¹ ICE and UP are parties to an agreement dated November 19, 1974, as amended, by which ICE's predecessor in interest, Chicago, Milwaukee, St. Paul and Pacific Railroad Company, granted to UP's predecessor in interest, Chicago, Rock Island and Pacific Railroad Company, overhead trackage rights over the line.

The transaction is scheduled to be consummated on February 22, 2008, the effective date of the exemption (30 days after the exemption was filed).

The purpose of this transaction is to modify (pursuant to an agreement dated May 22, 2007) the terms of the existing trackage rights agreement by granting UP the right to set out and pick up traffic at the VeraSun Hartley, LLC (VeraSun) facility at Hartley, IA, for so long as this facility is operated by VeraSun, its successors or assigns.

As a condition to this exemption, any employee affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by February 15, 2008 (at least 7 days before the exemption becomes effective).

Pursuant to the Consolidated Appropriations Act, 2008, Public Law 110-161, section 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

An original and 10 copies of all pleadings, referring to STB Finance Docket No. 27843 (Sub-No. 1), must be filed with the Surface Transportation Board, 395 E Street, SW., Washington, DC 20423-0001. In addition, one copy of each pleading must be served on Gabriel S. Meyer, Assistant General Attorney, 1400 Douglas Street, STOP 1580, Omaha, NE., 68179.

Board decisions and notices are available on our Web site at http://www.stb.dot.gov.

Decided: February 4, 2008.
By the Board, David M. Konschnik, Director, Office of Proceedings.
Anne K. Quinlan,
Acting Secretary.

[FR Doc. E8-2342 Filed 2-7-08; 8:45 am]

BILLING CODE 4915-01-P